DEPARTMENT OF COMMERCE

International Trade Administration

[A-405-803, A-201-834, A-421-811, A-401-808]

Purified Carboxymethylcellulose from Finland, Mexico, the Netherlands and Sweden: Notice of Postponement of Preliminary Determinations of Antidumping Duty Investigations

AGENCY: Import Administration, International Trade Administration, Department of Commerce.

ACTION: Notice of Postponement of Preliminary Antidumping Duty Determinations.

SUMMARY: The Department of Commerce (the Department) is postponing the preliminary determinations of the antidumping duty investigations on purified carboxymethylcellulose (CMC) from Finland, Mexico, the Netherlands and Sweden. These investigations cover manufacturers and exporters of the subject merchandise to the United States during the period April 1, 2003 through March 31, 2004. As a result of this extension, the deadline for issuing the preliminary determinations in these investigations is now December 16, 2004.

EFFECTIVE DATE: November 3, 2004.

FOR FURTHER INFORMATION CONTACT: Brian Sheba (Finland) at (202) 482-0145, Mark Flessner (Mexico) at (202) 482-6312, John Drury (Sweden) at (202) 482-0195, or Angelica Mendoza (the Netherlands) at (202) 482-3019; AD/CVD Operations, Office 7, Import Administration, International Trade Administration, U.S. Department of Commerce, 14th Street and Constitution Avenue NW, Washington, DC 20230.

SUPPLEMENTARY INFORMATION:

Background

On June 30, 2004, the Department initiated antidumping duty investigations of purified CMC from Finland, Mexico, the Netherlands and Sweden for the period April 1, 2003 through March 31, 2004. See Initiation of Antidumping Duty Investigations: Purified Carboxymethylcellulose (CMC) from Finland, Mexico, the Netherlands and Sweden, 69 FR 40617-40621 (July 6, 2004). The notice stated that the Department would issue its preliminary determinations no later than 140 days after the date of initiation, or November 16, 2004, unless this deadline is extended.

Postponement of Preliminary Determinations

Pursuant to section 733(c)(1)(A) of the Tariff Act of 1930, as amended (the Tariff Act) and 19 CFR 351.205(e), on October 25, 2004, the petitioners filed a request that the Department postpone the purified CMC preliminary determinations for Finland, Mexico, the Netherlands and Sweden. The petitioners' request for postponement was timely, and the Department finds no compelling reason to deny the request.

Therefore, in accordance with section 733(c)(1)(A) of the Tariff Act, the Department is postponing the deadline for issuing the preliminary determinations of these investigations by 30 days, or until December 16, 2004.

This notice is published pursuant to section 733(c)(2) of the Tariff Act and 19 CFR 351.205(f).

Dated: October 27, 2004.
James J. Jochum,
Assistant Secretary for Import Administration.

[FR Doc. E4-2999 Filed 11-2-04; 8:45 am]

BILLING CODE 3510-DS-S